DEPARTMENT OF COMMERCE

National Oceanic and Atmospheric Administration

50 CFR Part 648

[Docket No. 080521698-9067-02]

RIN 0648-AW87

Fisheries of the Northeastern United States; Northeast Multispecies Fishery; Secretarial Final Interim Action; Rule Extension

AGENCY: National Marine Fisheries Service (NMFS), National Oceanic and Atmospheric Administration (NOAA), Commerce.

ACTION: Temporary rule; interim action extension and request for comments.

SUMMARY: NMFS continues the management measures implemented by the April 13, 2009, interim rule (as modified by the July 8, 2009 interim rule), which is scheduled to expire on October 28, 2009. Specifically, this temporary rule maintains the current interim commercial and recreational management measures intended to reduce overfishing on certain stocks managed by the Northeast (NE) Multispecies Fishery Management Plan (FMP), for the remainder of the 2009 fishing year (FY)(i.e., through April 30, 2010).

DATES: The effective date of the interim rule published April 13, 2009 (74 FR 17030), as amended by the interim rule published July 8, 2009 (74 FR 32466) is extended through April 30, 2010. NMFS will accept comments through November 27, 2009.

ADDRESSES: You may submit comments, identified by 0648-AW87, by any one of the following methods:

• Electronic Submissions: Submit all electronic public comments via the Federal e-rulemaking portal: http://www.regulations.gov.

• Mail: Paper, disk, or CD-ROM comments should be sent to Patricia A. Kurkul, Regional Administrator, National Marine Fisheries Service, 55 Great Republic Drive, Gloucester, MA 01930-2276. Mark the outside of the envelope: “Comments on NE Multispecies Final Interim Rule.”

• Fax: (978) 281-9135.

Instructions: All comments received are part of the public record and will generally be posted to http://www.regulations.gov without change. All Personal Identifying Information (for example, name, address, etc.) voluntarily submitted by the commenter may be publicly accessible. Do not submit confidential business information or otherwise sensitive or protected information.

NMFS will accept anonymous comments (enter “N/A” in the required fields, if you wish to remain anonymous). Attachments to electronic comments will be accepted in Microsoft Word, Excel, WordPerfect, or Adobe PDF formats only.

Copies of the small entity compliance guide are available from the Regional Administrator, NMFS, Northeast Regional Office, at the address above. Copies of the Environmental Assessment (EA) prepared for this rule may be found at the following internet address: http://www.nero.noaa.gov/nero/regs/frdoc/09/09multiInterimea.pdf

FOR FURTHER INFORMATION CONTACT: Thomas A. Warren, Fishery Policy Analyst, (978) 281-9347, fax (978) 281-9135.

SUPPLEMENTARY INFORMATION:

Background

This temporary final rule extends the interim rule published on April 13, 2009 (74 FR 17030), as modified by the interim rule published on July 8, 2009 (74 FR 32466), through April 30, 2010, in order to manage the NE multispecies fishery through the end of FY 2009 (April 30, 2010). Those interim final rules, and the preceding proposed rule of January 16, 2009 (74 FR 2959), include detailed information on the background and reasons for the need to reduce fishing effort in the NE multispecies fishery for FY 2009. The public had an opportunity to comment on both the proposed and final rules. NMFS will accept public comment after publication of this temporary rule to extend, both on the effectiveness of the emergency action to date, and its extension.

All measures in effect prior to May 1, 2009, that were not amended by the April 13, 2009, final interim rule (as amended) will remain in effect. This action extends these measures through April 30, 2010.

The interim management measures extended through this interim rule are as follows: Maintenance of the scheduled FY 2009 DAS reduction included in the FMP, which results in an approximately 18-percent reduction in Category A days-at-sea (DAS); an expanded differential DAS counting area in Southern New England (SNE), where a vessel is charged 2 days for every day fished; modified trip limits (zero possession of SNE winter flounder, windowpane flounder (north), ocean pout, and witch flounder; 2,000 lb (909.1 kg)/DAS up to 10,000 lb (4,545.5 kg)/trip for white hake, and unrestricted possession of Georges Bank (GB) winter flounder); specification of target Total Allowable Catches (TACs); revisions to incidental catch TACs and allocations to special management programs; annual specifications for the U.S./Canada Management Area; elimination of the SNE/Mid-Atlantic (MA) Winter Flounder Special Access Program (SAP); elimination of the state waters winter flounder exemption; modification of the Closed Area I (CA I) Hook Gear Haddock SAP; reduction of the haddock minimum size to 18 inches (45 cm); extension of the Eastern U.S./Canada Haddock SAP; modifications to the Regular B DAS Program; DAS Leasing Program modifications; DAS Transfer Program modifications; implementation of monkfish DAS rules to mitigate impacts of the NE multispecies interim action; revision of the FY 2009 GB cod TACs for sectors; and modifications to the recreational measures, including extension in time of a seasonal prohibition on the possession of Gulf of Maine (GOM) cod, and continuation of the prohibition on the possession of SNE/MA winter flounder. In addition, this action continues measures to mitigate some of the negative, short-term economic impacts of the FMP by expanding the CA I Hook Gear Haddock SAP; modifying the DAS Leasing Program, the Regular B DAS Program, and the DAS Transfer Program; continuing the Eastern U.S./Canada Haddock SAP; and continuing a reduction in the haddock minimum size to 18 inches (45 cm) for both commercial and recreational vessels.

Four comments were received that were pertinent to the interim rule. Associated Fisheries of Maine supported the revised trip limits for GB winter flounder and white hake, and requested that NMFS exempt vessels fishing with haddock separator trawls or Rhule trawls from the SNE Differential DAS Area restrictions. The State of Maine supported the revised trip limits. NMFS agrees that the revised trip limits are justified. NMFS disagrees that the Rhule trawl or haddock separator trawl should be exempt from the SNE Differential DAS Area. The principal objective of the SNE Differential DAS Area is to reduce the fishing mortality on SNE winter flounder. Although the Rhule trawl significantly reduces the catch of winter flounder, it is less effective at reducing the catch of winter flounder compared to other species. Winter flounder comprised 4 percent of the experimental trawl catch in the research that was the basis of NMFS's approval of this gear for use in certain special management programs. Similarly, the haddock separator trawl research indicated significant reductions in catch of flatfish, but the percentage reduction is variable. In contrast, hook gear catches relatively little winter flounder (less than 1 percent, based on data from the Cape Cod Commercial Hook Fishermen's Association). Although it is not possible to quantitatively compare the difference in fishing mortality reduction between vessels fishing under differential (two-to-one) DAS restrictions (using regular trawl gear) and vessels fishing under one-to-one DAS restrictions (using specialized trawl gear), given the large reduction in fishing mortality necessary for SNE/MA winter flounder, exemption from the SNE Differential DAS restrictions for vessels using specialized trawl gear is not warranted.

The Atlantic States Marine Fisheries Commission (Commission) expressed support for the interim action and the extension of the action, especially those measures that provide additional protection for winter flounder. The Commission stated that the sacrifices made by the recreational and commercial fisheries are necessary to generate the future benefits of a rebuilt winter flounder fishery. NMFS agrees that continuing measures to protect winter flounder are necessary in order to rebuild the fishery for the future, and is extending the interim management measures for the duration of the fishing year.

A member of the fishing industry from New Jersey was concerned about the economic impact of the measures on vessels fishing for winter flounder from New Jersey ports. NMFS agrees that the prohibition on the retention of SNE/MA winter flounder and the SNE Differential DAS Area will have an economic impact on vessels from New Jersey ports. The economic impacts were taken into account by NMFS in the decision to implement a differential DAS area instead of a complete closure in SNE (as described in the interim rule of April 13, 2009). Restrictive measures are necessary to rebuild the SNE/MA stock of winter flounder.

Classification

NMFS has determined that the interim management measures extended by this temporary rule are necessary and are consistent with the Magnuson-Stevens Fishery Conservation and Management Act and other applicable law.

The interim rule that this rule extends was determined to be significant for purposes of E.O. 12866.

This rule is exempt from the procedures of the Regulatory Flexibility Act to prepare a regulatory flexibility analysis because the rule is issued without opportunity for prior public comment.

The EA prepared for the initial interim rule analyzed the impacts of the interim management measures for the duration of a year (Secretarial Interim Action to Implement Measures to Reduce Overfishing in the Northeast Multispecies Fishery Complex; Environmental Assessment; April 6, 2009). Therefore, this interim action extension meets the Categorical Exclusion requirements of NOAA Administrative Order 216-6, and no additional environmental analysis was prepared pursuant to the National Environmental Policy Act.

Authority: 16 U.S.C. 1801 et seq.

Dated: October 21, 2009.
James W. Balsiger,
Acting Assistant Administrator For Fisheries, National Marine Fisheries Service.

[FR Doc. E9-25810 Filed 10-26-09; 8:45 am]

BILLING CODE 3510-22-S